DEPARTMENT OF COMMERCE

International Trade Administration

Faulkes Telescope Corporation; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC

Docket Number: 02-030. Applicant: Faulkes Telescope Corporation, Honolulu, HI 96813. Instrument: Robotically Controlled 2 meter Astronomical Telescope. Manufacturer: Telescope Technologies Limited, United Kingdom. Intended Use: See notice at 67 FR 58354, September 16, 2002.

Comments: Comments dated September 26, 2002, were received from the University of Hawaii at Manoa in support of granting duty-free entry of the instrument. Decision: Approved. No instrument of equivalent scientific value to the foreign instrument, for such purposes as it is intended to be used, is being manufactured in the United States. Reasons: The foreign instrument provides a research quality (2-meter primary mirror with better than arcsecond imaging performance) telescope that is robotically controlled and accessible via the Internet for observation and research use by students from the secondary school to university level having commonality with two identical telescopes for exchanged observations. The National Aeronautics and Space Administration advised October 10, 2002, that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-26715 Filed 10-18-02; 8:45 am]

BILLING CODE 3510-DS-P